DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 9, 2019. Address written comments to Statutory Import Programs Staff, Room 3720, U.S. Department of Commerce, Washington, DC 20230. Applications may be examined between 8:30 a.m. and 5:00 p.m. at the U.S. Department of Commerce in Room 3720.

Docket Number: 19-002. Applicant: University of Chicago Argonne LLC, Operator of Argonne National Laboratory, 9700 South Cass Avenue, Lemont, IL 60439-4873. Instrument: S1-S3 magnets. Manufacturer: Danfysik, Denmark. Intended Use: The instrument(s) are the components of a 4th generation synchrotron accelerator, i.e., the Advanced Photon Source Upgrade (APSU) accelerator, one of the most technologically complex machines in the world. APSU is a non-profit research facility which provides ultra-bright, high-energy x-ray beams to more than 5000 (and growing) scientists from across the United States. These scientists come from universities, medical schools, and other research institutions. Their research covers nearly every scientific discipline, from materials science to biology, chemistry, environmental, geological and planetary science and fundamental physics. APS provide x-ray beams of a broad parameters that allow them to collect data in unprecedented detail and in amazingly short time frames. According to the applicant, the research results achieved through APS will make real and positive impact on our technologies, health, economy and fundamental understanding of the materials that make up our world. Justification for Duty-Free Entry: There are no instruments of the same general category manufactured in the United States. Application accepted by Commissioner of Customs: April 2, 2019.

Docket Number: 19-003. Applicant: University of Chicago Argonne LLC, Operator of Argonne National Laboratory, 9700 South Cass Avenue, Lemont, IL 60439-4873. Instrument: Canted Undulator Front-End Fixed Masks and Photon Shutters. Manufacturer: Strumenti Scientific CINEL S.R.L., Italy. Intended Use: The instrument will be used to assemble the new canted undulator front ends for the Advanced Photon Source upgrade. The front end consists of a series of components that connect the storage ring to the user beamline in order to deliver a photon beam that will be used as a three-dimensional X-ray microscope for experimental purposes. The properties of the materials studied include but are not limited to grain structure, grain boundary and interstitial defects and morphology. These properties are not only studied at ambient environments but also under high pressure, temperature, stress and strain. The objective is to further the understanding of different materials and material properties. Justification for Duty-Free Entry: There are no instruments of the same general category manufactured in the United States. Application accepted by Commissioner of Customs: April 3, 2019.

Docket Number: 19-004. Applicant: University of Chicago Argonne LLC., Operatory of Argonne National Laboratory, 9700 South Cass Avenue, Lemont, IL 60439-4873. Instrument: Unipolar polar supplies. Manufacturer: Danfysik, Denmark. Intended Use: The instrument is part of a complex machine to be used for basic research that provides a very stable and filtered direct current (DC) to power electromagnet to bend, focus and correct electrons particle (e-) in a multi bend achromat (MBA) storage ring (SR). The nominal current varies from 100 A to 300A and the required stability and ripple is better than 10 parts per million (<10 ppm). The equipment should comply with APS safety standards and mechanical dimensions to be installed in existing racks. According to the applicant, APS-U is approaching a new era in science and engineering, one that promises a revolutionary understanding of complex materials and chemical processes across the entire hierarchy of lengthscales and timescales. This understanding demands that we move beyond exploration of equilibrium phenomena and beyond models based on idealized materials and systems, to be able to create new states and achieve extraordinary new functions. The improvements in photon beam properties, combined with rapid, ongoing advances in x-ray optics, insertion devices, detectors, computing and theory will make it possible for researchers at x-ray light sources to explore a new landscape of scientific problems that previously were completely inaccessible. Justification for Duty-Free Entry: There are no instruments of the same general category manufactured in the United States. Application accepted by Commissioner of Customs: April 5, 2019.

Docket Number: 19-006. Applicant: University of Chicago Argonne LLC, Operatory of Argonne National Laboratory, 9700 South Cass Avenue, Lemont, IL 60439-4873. Instrument: Q4 and Q5 magnets. Manufacturer: Danfysik, Denmark. Intended Use: The instrument(s) are the components of a 4th generation synchrotron accelerator, i.e., the Advanced Photon Source Upgrade (APSU) accelerator, one of the most technologically complex machines in the world. APSU is an non-profit research facility, that will provide ultra-bright, high-energy x-ray beams to more than 5000 (and growing) scientists from across the United States. The research covers nearly every scientific discipline, from materials science to biology, chemistry, environmental, geological and planetary science and fundamental physics. APS provide x-ray beams of a broad parameters that allow them to collect data in unprecedented detail and in amazingly short time frames. According to the applicant, the research results achieved will constantly make real and positive impact on our technologies, health, economy and fundamental understanding of the materials that make up our world. Justification for Duty-Free Entry: There are no instruments of the same general category manufactured in the United States. Application accepted by Commissioner of Customs: April 8, 2019.

Docket Number: 19-007. Applicant: University of Chicago Argonne LLC, Operator of Argonne National Laboratory, 9700 South Cass Avenue, Lemont, IL 60439-4873. Instrument: Fixed Masks, Photon Shutters, Grid Masks. Manufacturer: Strumenti Scientific CINEL S.R.L., Italy. Intended Use: The instrument and components will be used to assemble the new high heat load front ends for the Advanced Photon Source upgrade. The front end consists of a series of components that connect the storage ring to the user beamline to deliver a photon beam that will be used as a three-dimensional X-ray microscope for experimental purposes. The materials/phenomena studied vary from material properties analysis, protein mapping for pharmaceutical companies, X-ray imaging and chemical composition, but are not limited to grain structure, grain boundary and interstitial defects and morphology under high pressure, temperature, stress and strain. Justification for Duty-Free Entry: There are no instruments of the same general category manufactured in the United States. Application accepted by Commissioner of Customs: April 19, 2019.

Docket Number: 19-009. Applicant: Fermi Research Alliance (FRA), Kirk & Pine Street, Batavia, IL 60510. Instrument: Linac Coherent Light Source II (LCLS-II) cryomodules' vacuum vessels. Manufacturer: Wuxi Creative Technologies Company, Ltd., WXCX, China. Intended Use: The instrument will be used to study scientific research including the studies of elementary particles. Each vessel is assembled with other components to form a CW cryomodule. The Vessel is a cylindrical vacuum shell that the cold mass upper assembly (“Assembly”) is inserted into. The Vessel provides the insulating vacuum and other necessary conditions to cool down and operate the cryomodules in the LCLS-II upgrade. Justification for Duty-Free Entry: There are no instruments of the same general category manufactured in the United States. Application accepted by Commissioner of Customs: April 25, 2019.

Dated: August 14, 2019.
Gregory W. Campbell,
Director, Subsidies Enforcement, Enforcement and Compliance.

[FR Doc. 2019-17765 Filed 8-16-19; 8:45 am]

BILLING CODE 3510-DS-P